Title 3—

The President

Proclamation 9903 of June 1, 2019

Honoring the Victims of the Tragedy in Virginia Beach, Virginia

By the President of the United States of America

A Proclamation

Our Nation grieves with those affected by the tragic shooting at the Virginia Beach Municipal Center in Virginia Beach, Virginia. Americans unite in praying for God to comfort the injured and heal the wounded. May God be with the victims and bring aid and comfort to their families and friends. As a mark of solemn respect for the victims of the terrible act of violence perpetrated on May 31, 2019, by the authority vested in me as President of the United States by the Constitution and the laws of the United States of America, I hereby order that the flag of the United States shall be flown at half-staff at the White House and upon all public buildings and grounds, at all military posts and naval stations, and on all naval vessels of the Federal Government in the District of Columbia and throughout the United States and its Territories and possessions until sunset, June 4, 2019. I also direct that the flag shall be flown at half-staff for the same length of time at all United States embassies, legations, consular offices, and other facilities abroad, including all military facilities and naval vessels and stations.

IN WITNESS WHEREOF, I have hereunto set my hand this first day of June, in the year of our Lord two thousand nineteen, and of the Independence of the United States of America the two hundred forty-third.

[FR Doc. 2019-12233

Filed 6-6-19; 11:15 am]

Billing code 3295-F9-P